DEPARTMENT OF HOMELAND SECURITY

Agency Information Collection Activities: EngageDHS

AGENCY: Office of the Chief Procurement Officer, Department of Homeland Security (DHS).

ACTION: 30-Day Notice and request for comments; New Collection, 1601-NEW.

SUMMARY: The DHS Office of the Chief Procurement Officer, will submit the following Information Collection Request (ICR) to the Office of Management and Budget (OMB) for review and clearance in accordance with the Paperwork Reduction Act of 1995. DHS previously published this information collection requests (ICR) in the Federal Register on Tuesday, October 17, 2017 at 82 FR 48236 for a 60-day public comment period. Zero comments were received by DHS. The purpose of this notice is to allow an additional 30 days for public comments.

DATES: Comments are encouraged and will be accepted until March 9, 2018. This process is conducted in accordance with 5 CFR 1320.1.

ADDRESSES: Interested persons are invited to submit written comments on the proposed information collection to the Office of Information and Regulatory Affairs, Office of Management and Budget. Comments should be addressed to OMB Desk Officer, Department of Homeland Security and sent via electronic mail to dhsdeskofficer@omb.eop.gov.

FOR FURTHER INFORMATION CONTACT: Mike Villano, (202) 447-5446, Mike.Villano@hq.dhs.gov.

SUPPLEMENTARY INFORMATION: Under 41 U.S.C. 3306, agencies are required to use advance procurement planning and conduct market research. Advance planning and market research is a means of developing the agency's acquisition requirements. As part of this process, companies frequently ask to meet with DHS representatives for numerous reasons including: Sharing information on technologies and company capabilities or to ask how to do business with DHS. DHS needs the information being collected to prepare for productive meetings, share information across the enterprise about touchpoints the company has had at DHS, and to better track the frequency and number of meetings between DHS and companies. No personal information is being collected.

This is a means of improving the procurement process that is used to support the DHS mission. The above statute is implemented by 48 CFR (FAR) Part 10, Market Research. The information collection method the agency requests is not specifically mentioned in the regulation but it is nonetheless permissible because it reasonable and does not request more information than is necessary. Under 48 CFR (FAR) 1.102-4(e), Role of the Acquisition Team, agencies are allowed to implement a policy, procedure, strategy or practice if it is in the interest of the Government and is not otherwise prohibit.

The information is being used by DHS to help determine the department personnel who should be attending the meetings. It is also used by DHS representatives to better prepare for the meeting, so that it is productive for both DHS and the companies It is helpful for DHS to know background information about the company as well as whether they have met with DHS before and whether they currently support the Department. DHS also receives inquiries from oversight bodies, such as Congress, regarding with how many companies DHS has met with as well as whether DHS has met with specific companies. The meeting information provides source data for answering those inquiries in an accurate and timely manner. EngageDHS is a fillable form that will be used to collect vendor/industry meetings with DHS.

Upon a request for a meeting, DHS will ask companies to complete a request form and submit via email to the DHS Industry Liaison mailbox at DHSIndustryLiaison@hq.dhs.gov. Once it is received by DHS, this form could be electronically loaded into DHS' system, called EngageDHS. (EngageDHS is DHS' implementation of Microsoft Dynamics CRM.) This process makes it easier and faster for companies to send in the form (email versus paper mail). It also reduces the burden on DHS employees as they do not need to manually input the information into EngageDHS. Performing data collection as discussed above would also reduce the burden on the companies requesting meetings with DHS as they would only have to fill out the form at the time of their first meeting request. So for example, if a company over time meets with representatives from multiple DHS Components (e.g., Transportation Security Administration, Federal Emergency Management Agency, Coast Guard, Immigration and Customs Enforcement, etc.), the company would only have to fill out the form once.

There is no assurance of confidentiality provided to the respondents for the collection of this information. The collection of information is covered by

DHS/ALL/PIA-006 DHS General Contact Lists

DHS/ALL-021 Department of Homeland Security Contractors and Consultants, October 23, 2008, 73 FR 63179

This is a new information collection. OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of the Chief Procurement Officer, DHS.

Title: Agency Information Collection Activities: EngageDHS.

OMB Number: 1601-NEW.

Frequency: Annually.

Affected Public: Private and Public Sector.

Number of Respondents: 750.

Estimated Time per Respondent: 0.25 hours.

Total Burden Hours: 187.5.

Melissa Bruce,
Executive Director, Enterprise Business Management Office.

[FR Doc. 2018-02457 Filed 2-6-18; 8:45 am]

BILLING CODE 9110-9B-P